DEPARTMENT OF ENERGY

Federal Energy Regulatory Commission

[Docket No. RP95-408-035]

Columbia Gas Transmission Corp.; Notice of Report

January 27, 2000.

Take notice that on January 20, 2000, Columbia Gas Transmission Corporation (Columbia) tendered for filing a report on the flow back to customers on December 10, 1999, of $217,602 representing the time value of money associated with the deferred taxes applicable to the Kanawha Separation Plant sold to Columbia Natural Resources, Inc. pursuant to Stipulation II, Article III, Section G(2) of Columbia's approved settlement in Docket No. RP95-408, et al. Columbia credited its customers' invoices issued on December 10, 1999.

Columbia states that a copy of this report is being provided to all recipients of a share of the flowback and all state commissions whose jurisdiction includes the location of any such recipient.

Any person desiring to protest this filing should file a protest with the Federal Energy Regulatory Commission, 888 First Street NE, Washington, DC 20426, in accordance with Section 385.211 of the Commission's Rules and Regulations. All such protests must be filed as provided in Section 154.210 of The Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2192 Filed 2-1-00; 8:45 am]

BILLING CODE 6717-01-M